DEPARTMENT OF TRANSPORTATION

Federal Aviation Administration

14 CFR Part 23

[Docket No. CE308; Special Conditions No. 23-248-SC]

Special Conditions: Cirrus Design Corporation Model SF50 Airplane; Function and Reliability Testing

AGENCY: Federal Aviation Administration (FAA), DOT.

ACTION: Final special conditions.

SUMMARY: These special conditions are issued for the Cirrus Design Corporation SF50 airplane. This airplane will have a novel or unusual design feature(s) associated with the complex design and performance features consistent with larger airplanes. The applicable airworthiness regulations do not contain adequate or appropriate safety standards for this design feature. These special conditions contain the additional safety standards that the Administrator considers necessary to establish a level of safety equivalent to that established by the existing airworthiness standards.

DATES: Effective Date: September 17, 2010.

FOR FURTHER INFORMATION CONTACT: J. Lowell Foster, Federal Aviation Administration, Small Airplane Directorate, Aircraft Certification Service, 901 Locust, Room 301, Kansas City, MO 64106; telephone (816) 329-4125; facsimile (816) 329-4090.

SUPPLEMENTARY INFORMATION:

Background

On September 9, 2008, Cirrus Design Corporation applied for a type certificate for their new model SF50 “Vision” Jet. The SF50 is a low-wing, five-plus-two-place (2 children), single-engine turbofan-powered aircraft. It incorporates an Electronic Flight Information System (EFIS), pressurized cabin, retractable gear, and a V-tail. The turbofan engine is mounted on the upper fuselage/tail cone along the aircraft centerline. It is constructed largely of carbon and fiberglass composite materials. Like other Cirrus products, the SF50 includes a ballistically deployed airframe parachute.

The model SF50 has a maximum operating altitude of 28,000 feet, where it cruises at speeds up to 300 Knots True Air Speed (KTAS). Its VMO will not exceed 0.62 Mach. The maximum takeoff weight will be at or below 6,000 pounds with a range at economy cruise of roughly 1,000 nm. Cirrus intends for the model SF50 to be certified for single-pilot operations under 14 CFR part 91 and 14 CFR part 135 operating rules. The following operating conditions will be included:

• Day and Night VFR.

• IFR.

• Flight Into Known Icing.

Discussion

Before Amendment 3-4, Section 3.19 of Civil Air Regulation (CAR) part 3 required service testing of all airplanes type certificated on or after May 15, 1947. The purpose of the testing was to “ascertain whether there is reasonable assurance that the airplane, its components, and equipment are reliable, and function properly.”

Amendment 3-4 to CAR part 3 became effective January 15, 1951, and deleted the service test requirements in Section 3.19 for airplanes of 6,000 pounds maximum weight or less. The introductory text published in Amendment 3-4 explained that most of the significant changes in the amendment stemmed from “the desire for simplification of the rules in this part with respect to the smaller airplanes, specifically those of 6,000 pounds maximum weight or less, which would be expected to be used mainly as personal airplanes.” The introductory material also stated the service test requirement was removed for airplanes of 6,000 pounds maximum weight or less because “experience seems to indicate that this rule imposes a burden upon the manufacturers not commensurate with the safety gained.” The requirement for Function and Reliability (F&R) testing, and the exception for airplanes of 6,000 pounds or less maximum weight, is now found in 14 CFR part 21, section 21.35(b)(2).

The decision to exempt airplanes of 6,000 pounds maximum weight or less from F&R testing was based on the state of technology envisioned in 1951. At that time, airplanes of 6,000 pounds maximum weight or less were expected to be used mainly as personal airplanes. They used simple, “stand-alone” systems whose failure was more likely to be an inconvenience than an accident. The situation is different today. Technological advances allow airplanes weighing less than 6,000 pounds to be more complex and integrated than some transport airplanes. New part 23 airplanes can incorporate sophisticated equipment not previously used in a part 23 aircraft. Additionally, part 23 airplanes are being used for business and commercial transportation. They should no longer be envisioned mainly as personal airplanes. Therefore, a special condition to require F&R testing for airplanes weighing 6,000 pounds or less is needed where the level of sophistication is beyond evaluating failures by inspection.

Type Certification Basis

Under the provisions of 14 CFR 21.17, Cirrus Design Corporation must show that the SF50 meets the applicable provisions of part 23, as amended by Amendments 23-1 through 23-59 thereto.

If the Administrator finds that the applicable airworthiness regulations (i.e., 14 CFR part 23) do not contain adequate or appropriate safety standards for the SF50 because of a novel or unusual design feature, special conditions are prescribed under the provisions of § 21.16.

In addition to the applicable airworthiness regulations and special conditions, the SF50 must comply with the fuel vent and exhaust emission requirements of 14 CFR part 34 and the noise certification requirements of 14 CFR part 36; and the FAA must issue a finding of regulatory adequacy under section 611 of Public Law 92-574, the “Noise Control Act of 1972.”

The FAA issues special conditions, as defined in § 11.19, under § 11.38 and they become part of the type certification basis under § 21.17(a)(2).

Special conditions are initially applicable to the model for which they are issued. Should the type certificate for that model be amended later to include any other model that incorporates the same novel or unusual design feature, the special conditions would also apply to the other model under § 21.101.

Novel or Unusual Design Features

The SF50 will incorporate the following novel or unusual design features: Complex design and performance features consistent with technologically advanced aircraft over 6,000 pounds.

Discussion of Comments

Notice of proposed special conditions No. 23-10-02-SC for the Cirrus Design Corporation model SF50 airplanes was published in the Federal Register on May 28, 2010, 75 FR 29962. No comments were received, and the special conditions are adopted as proposed.

Applicability

As discussed above, these special conditions are applicable to the SF50. Should Cirrus Design Corporation apply at a later date for a change to the type certificate to include another model incorporating the same novel or unusual design feature, the special conditions would apply to that model as well.

Conclusion

This action affects only certain novel or unusual design features on model SF50 airplanes. It is not a rule of general applicability and affects only the applicant who applied to the FAA for approval of these features on the airplane.

List of Subjects in 14 CFR Part 23

Aircraft, Aviation safety, Signs and symbols.

Citation

The authority citation for these special conditions is as follows:

Authority: 49 U.S.C. 106(g), 40113 and 44701; 14 CFR 21.16 and 21.17; and 14 CFR 11.38 and 11.19.

The Special Conditions

Accordingly, pursuant to the authority delegated to me by the Administrator, the following special conditions are issued as part of the type certification basis for Cirrus Design Corporation model SF50 airplanes.

1. Function and Reliability Testing.

Flight tests: In place of 14 CFR 21.35(b)(2), the following applies:

(b) Upon showing compliance with § 21.35, paragraph (a), the applicant must make all flight tests that the Administrator finds necessary—

(2) For aircraft to be certificated under this subchapter to determine whether there is reasonable assurance that the aircraft, its components, and its equipment are reliable and function properly.

Additionally the provisions of § 21.35, paragraphs (c) and (f) then apply:

(c) Each applicant must, if practicable, make the tests described in paragraph (b)(2) of this section upon the aircraft that was used to show compliance with—

(1) Paragraph (b)(1) of this section; and

(2) __.

(f) The flight tests prescribed in paragraph (b)(2) of this section must include—

(1) For aircraft incorporating turbine engines of a type not previously used in a type certificated aircraft, at least 300 hours of operation with a full complement of engines that conform to a type certificate; and

(2) For all other aircraft, at least 150 hours of operation.

Issued in Kansas City, Missouri, on August 9, 2010.
John R. Colomy,
Acting Manager, Small Airplane Directorate, Aircraft Certification Service.

[FR Doc. 2010-20416 Filed 8-17-10; 8:45 am]

BILLING CODE 4910-13-P